FEDERAL COMMUNICATIONS COMMISSION

Open Commission Meeting, Thursday, April 20, 2017

April 13, 2017.

The Federal Communications Commission will hold an Open Meeting on the subjects listed below on Thursday, April 20, 2017 which is scheduled to commence at 10:30 a.m. in Room TW-C305, at 445 12th Street SW., Washington, DC.

Item No. | Bureau | Subject
1 | Wireline Competition | Title: Connect America Fund (WC Docket No. 10-90); ETC Annual Reports and Certifications (WC Docket No. 14-58); Developing a Unified Intercarrier Compensation Regime (CC Docket No. 01-92)
|  | Summary: The Commission will consider an Order on Reconsideration that would amend the construction project limitation within section 54.303 of the Commission's rules to permit carriers to report, for universal service purposes, capital expenses per location up to the established per-location per-project limit, rather than disallowing all capital expenses associated with construction projects in excess of the limit.
2 | Wireline Competition | Title: Accelerating Wireline Broadband Deployment by Removing Barriers to Infrastructure Investment (WC Docket No. 17-84)
|  | Summary: The Commission will consider a Notice of Proposed Rulemaking, Notice of Inquiry, and Request for Comment that would propose to remove regulatory barriers to infrastructure investment, suggest changes to speed the transition from copper networks and legacy services to next-generation networks and services dependent on fiber, and propose to reform Commission regulations that are raising costs and slowing, rather than facilitating, broadband deployment.
3 | Wireless Tele-Communications | Title: Accelerating Wireless Broadband Deployment by Removing Barriers to Infrastructure Investment (WT Docket No. 17-79); Revising the Historic Preservation Review Process for Wireless Facility Deployments (WT Docket No. 15-180)
|  | Summary: The Commission will consider a Notice of Proposed Rulemaking and Notice of Inquiry that commences an examination of the regulatory impediments to wireless network infrastructure investment and deployment, and how the Commission may remove or reduce such impediments consistent with the law and the public interest.
4 | Wireline Competition | Title: Business Data Services in an Internet Protocol Environment (WC Docket No. 16-143); Technology Transitions (GN Docket No. 13-5); Special Access for Price Cap Local Exchange Carriers (WC Docket No. 05-25); AT&T Corporation Petition for Rulemaking to Reform Regulation of Incumbent Local Exchange Carrier Rates for Interstate Special Access Services (RM-10593)
|  | Summary: The Commission will consider a Report and Order that recognizes the strong competition present in the business data services market and modernizes the Commission's regulatory structure accordingly to bring ever new and exciting technologies, products, and services to businesses and consumers.
5 | Media | Title: Amendment of section 73.3555(e) of the Commission's Rules, National Television Multiple Ownership Rule (MB Docket No. 13-236)
|  | Summary: The Commission will consider an Order on Reconsideration to reinstate the UHF discount used to calculate compliance with the national television audience reach cap.
6 | Media | Title: Noncommercial Educational Station Fundraising for Third-Party Non-Profit Organizations (MB Docket No. 12-106)
|  | Summary: The Commission will consider a Report and Order that would adopt rules permitting NCE stations not funded by the Corporation for Public Broadcasting to alter or suspend regular programming in order to conduct fundraising for third-party non-profit organizations so long as such stations do not spend more than one percent of their total annual airtime on such activities.
7 | Media | Title: Promoting Diversification of Ownership in the Broadcasting Services (MB Docket No. 07-294); Amendment of part 1 of the Commission's Rules, Concerning Practice and Procedure, Amendment of CORES Registration System (MD Docket No. 10-234)
|  | Summary: The Commission will consider an Order on Reconsideration that would allow noncommercial broadcasters greater flexibility to use a Special Use FRN for ownership reporting purposes and avoid the need to submit personal information to the Commission.
* * * * * * *
Consent Agenda
The Commission will consider the following subjects listed below as a consent agenda and these items will not be presented individually:
1 | Media | Title: WLPC, LLC, Application For Renewal of License For Class A Television Station WLPC-CD, Detroit, Michigan Kingdom of God, Inc., DWKOG-LP, Indianapolis, Indiana
|  | Summary: The Commission will consider an Order on Reconsideration concerning the expiration of WKOG-LP's license.
2 | Media | Title: Threshold Communications, Application for Construction Permit, KVNW(FM), Napavine, Washington
|  | Summary: The Commission will consider a Memorandum Opinion and Order concerning the grant of an application for a construction permit for a new FM station.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-07949 Filed 4-19-17; 8:45 am]

BILLING CODE 6712-01-P